DEPARTMENT OF TRANSPORTATION

Federal Aviation Administration

Notice of Intent of Waiver With Respect to Land; Willoughby Lost Nation Municipal Airport, Willoughby, Ohio

AGENCY: Federal Aviation Administration (FAA), DOT.

ACTION: Notice.

SUMMARY: The FAA is considering a proposal to change 1.021 acres of airport land from aeronautical use to non-aeronautical use and to authorize the sale of airport property located at Willoughby Lost Nation Municipal Airport, Willoughby, Ohio. The aforementioned land is not needed for aeronautical use.

The property is located north east of the Runway 28 threshold, west of Reynolds Road and south of the City of Mentor Fire Station No. 4. The parcel is obligated as aeronautical use within the airport boundary as depicted on the current Exhibit A. There is no current existing aeronautical use. The proposed non-aeronautical use of the property is for a Regional Emergency Response Facility to be developed by the City of Mentor.

DATES: Comments must be received on or before June 19, 2019.

ADDRESSES: Documents are available for review by appointment at the FAA Detroit Airports District Office, Evonne M. McBurrows, Program Manager, 11677 South Wayne Road, Suite 107, Romulus, Michigan Telephone: (734) 229-2945/Fax: (734)229-2950 and Lake County Ohio Port and Economic Development Authority, One Victoria Place, Suite 265A, Painesville, Ohio, 44077, (440)357-2290.

Written comments on the Sponsor's request must be delivered or mailed to: Evonne M. McBurrows, Program Manager, Federal Aviation Administration, Detroit Airports District Office, 11677 South Wayne Road, Suite 107, Romulus, Michigan 48174, Telephone Number: (734) 229-2945/FAX Number: (734) 229-2950.

FOR FURTHER INFORMATION CONTACT: Evonne M. McBurrows, Program Manager, Federal Aviation Administration, Detroit Airports District Office, 11677 South Wayne Road, Suite 107, Romulus, Michigan 48174. Telephone Number: (734) 229-2945/FAX Number: (734) 229-2950.

SUPPLEMENTARY INFORMATION: In accordance with section 47107(h) of Title 49, United States Code, this notice is required to be published in the Federal Register 30 days before modifying the land-use assurance that requires the property to be used for an aeronautical purpose.

The parcel is obligated as aeronautical use within the airport boundary as depicted on the current Exhibit A. It is currently vacant land and there is no existing aeronautical use. The land was acquired with federal funds under AIP Grant 85-2-3-39-0090-0185. Lake County Ohio Port and Economic Development Authority is proposing to sell the land to the City of Mentor for the development of a non-aeronautical Regional Emergency Response Facility. The airport will receive fair market value for the sale of this land.

The disposition of proceeds from the sale of the airport property will be in accordance with FAA's Policy and Procedures Concerning the Use of Airport Revenue, published in the Federal Register on February 16, 1999 (64 FR 7696).

This notice announces that the FAA is considering the release of the subject airport property at the Willoughby Lost Nation Municipal Airport, Willoughby, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description 1.021 Acres

Situated in the City of Mentor, County of Lake, and State of Ohio and known as being a leasehold estate over and upon a part of Original Mentor Township Lot No. 6, Tract No. 9 in the Tenth Township of the Ninth Range of the Connecticut Western Reserve and more particularly being a part of the first parcel of lands conveyed to the Lake County Ohio Port and Economic Development Authority by instrument dated October 8, 2014 and recorded in Document No. 2014R025222 of Lake County Records and is bounded and described as follows:

Beginning in the centerline of Reynolds Road (State Route No. 306, width varies) at a one inch diameter iron pin stake in a monument box found marking its intersection with the centerline of Bellflower Road;

Thence South 0°29′08″ West along said centerline of Reynolds Road, the same being the easterly line of Farmington Meadows No. 3 Subdivision as shown by plat recorded in Volume 9, Page 42 of Lake County Plat Records, a distance of 776.18 feet to its intersection with the easterly prolongation of the southerly line of Block “A” as shown by said plat;

Thence South 89°49′32″ West along said prolongation and southerly 1ine of Block “A” a distance of 45.00 feet to the northeasterly corner of land (PPN 16-C-072-0-00-011-0) conveyed to the City of Mentor as recorded in Deed Book Volume 621, Page 275 of Lake County Records;

Thence South 0°29′08″ West along the easterly line of said land of the City of Mentor, the same being parallel with and distant 45.00 feet westerly by normal measure from said centerline of Reynolds Road, a distance of 125.00 feet to the northeasterly corner of said land of the Lake County Ohio Port and Economic Development Authority and the Principal Point of Beginning of the following described parcel of land:

COURSE I Thence South 0°29′08″ West along the easterly line of said land of the Lake County Ohio Port and Economic Development Authority, the same being parallel with and distant 45.00 feet westerly by normal measure from said centerline of Reynolds Road, a distance of 82.41 feet to a point therein;

COURSE II Thence South 89°49′32″ West a distance of 400.61 feet to a point;

Course III Thence North 0°29′08″ East a distance of 207.41 feet to the southerly line of the aforesaid Farmington Meadows No. 3 Subdivision;

COURSE IV Thence North 89°49′32″ East along said southerly line of the Farmington Meadows No. 3 Subdivision a distance of 91.70 feet to its intersection with the westerly line of lands conveyed to the City of Mentor as aforesaid;

COURSE V Thence South 0°29′08″ West along said westerly line of land of the City of Mentor a distance of 125.00 feet to the southwesterly corner of the same;

COURSE VI Thence North 89°49′32″ East along the southerly line of said land of the City of Mentor a distance of 308.91 feet to the Principal Point of Beginning and containing 1.021 Acres (44,470 Square Feet) of land as described in October, 2018 by CT Consultants, Inc.

Issued in Romulus, Michigan, on May 7, 2019.
John L. Mayfield, Jr.,
Manager, Detroit Airports District Office, FAA, Great Lakes Region.

[FR Doc. 2019-10339 Filed 5-17-19; 8:45 am]

BILLING CODE 4910-13-P